DEPARTMENT OF COMMERCE

National Oceanic and Atmospheric Administration

50 CFR Part 648

[RTID 0648-XX020]

Fisheries of the Northeastern United States; Summer Flounder Fishery; Quota Transfer From NC to RI and VA

AGENCY: National Marine Fisheries Service (NMFS), National Oceanic and Atmospheric Administration (NOAA), Commerce.

ACTION: Notification of quota transfer.

SUMMARY: NMFS announces that the State of North Carolina is transferring a portion of its 2019 commercial summer flounder quota to the State of Rhode Island and the Commonwealth of Virginia. This quota adjustment is necessary to comply with the Summer Flounder, Scup, and Black Sea Bass Fishery Management Plan quota transfer provisions. This announcement informs the public of the revised commercial quotas for North Carolina, Virginia, and Rhode Island.

DATES: Effective November 4, 2019, through December 31, 2019.

FOR FURTHER INFORMATION CONTACT: Laura Hansen, Fishery Management Specialist, (978) 281-9225.

SUPPLEMENTARY INFORMATION: Regulations governing the summer flounder fishery are found in 50 CFR 648.100 through 648.110. These regulations require annual specification of a commercial quota that is apportioned among the coastal states from Maine through North Carolina. The process to set the annual commercial quota and the percent allocated to each state is described in § 648.102 and final 2019 allocations were published on May 17, 2019 (84 FR 22392).

The final rule implementing Amendment 5 to the Summer Flounder Fishery Management Plan, as published in the Federal Register on December 17, 1993 (58 FR 65936), provided a mechanism for transferring summer flounder commercial quota from one state to another. Two or more states, under mutual agreement and with the concurrence of the NMFS Greater Atlantic Regional Administrator, can transfer or combine summer flounder commercial quota under § 648.102(c)(2). The Regional Administrator is required to consider three criteria in the evaluation of requests for quota transfers or combinations: The transfer or combinations would preclude the overall annual quota from being fully harvested, the transfer addresses an unforeseen variation or contingency in the fishery, and the transfer is consistent with the objectives of the GMP and the Magnuson-Stevens Act.

North Carolina is transferring 23,481 lb (10,651 kg) and 7,706 lb (3,495 kg) of summer flounder commercial quota to Rhode Island and Virginia, respectively, through mutual agreement of the states. These transfers were requested to repay landings made by North Carolina-permitted vessels in Rhode Island and Virginia under safe harbor agreements. Based on the revised Summer Flounder, Scup, and Black Sea Bass Specifications, the revised summer flounder quotas for fishing year 2019 are now: North Carolina, 2,926,555 lb (1,327,463 kg); Rhode Island, 1,745,943 lb (9,1946 kg); and Virginia, 2,398,416 lb (1,087,903 kg).

Authority: 16 U.S.C. 1801 et seq.

Dated: October 29, 2019.
Alan D. Risenhoover,
Director, Office of Sustainable Fisheries, National Marine Fisheries Service.

[FR Doc. 2019-23966 Filed 11-4-19; 8:45 am]

BILLING CODE 3510-22-P